PENSION BENEFIT GUARANTY CORPORATION

29 CFR Part 4007

Payment of Premiums

CFR Correction

In Title 29 of the Code of Federal Regulations, Part 1927 to End, revised as of July 1, 2011, on page 933, § 4007.5 is reinstated to read as follows:

§ 4007.5 Date of filing.

The PBGC applies the rules in subpart C of part 4000 of this chapter to determine the date that a submission under this part was filed with the PBGC.

[68 FR 61352, Oct. 28, 2003]

[FR Doc. 2012-8185 Filed 4-3-12; 8:45 am]

BILLING CODE 1505-01-D